DEPARTMENT OF COMMERCE

International Trade Administration

[A-201-806]

Carbon Steel Wire Rope From Mexico; Rescission of Antidumping Duty Administrative Review

AGENCY: Import Administration, International Trade Administration, Department of Commerce.

ACTION: Notice of Rescission of Antidumping Duty Administrative Review.

SUMMARY: On May 1, 2000, the Department of Commerce (the Department) initiated an administrative review of the antidumping duty order on carbon steel wire rope from Mexico (65 FR 25303). The Department initiated this review at the request of the Committee of Domestic Steel Wire Rope and Specialty Cable Manufacturers (the petitioner). This review covers two manufacturers, Camesa, S.A. de C.V. (Camesa), and Cablesa, S.A. de C.V. (Cablesa). The period of review (POR) is March 1, 1999 through December 31, 1999. On May 10, 2000, Cablesa certified that it did not have any exports or sales to the United States during the POR. On June 15, 2000, the petitioner withdrew its request for a review of Camesa. The Department has received no additional submissions from any party concerning this review. Accordingly, we are rescinding this review.

EFFECTIVE DATE: September 28, 2000.

FOR FURTHER INFORMATION CONTACT: Mark Hoadley, Import Administration, International Trade Administration, U.S. Department of Commerce, Washington, D.C. 20230; telephone: (202) 482-0666.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department's regulations are to 19 CFR Part 351 (1999).

Scope of Review

The merchandise covered by this order consists of carbon steel wire rope. Steel wire rope encompasses ropes, cables, and cordage of iron or carbon steel, other than stranded wire, not fitted with fittings or made up into articles, and not made up of brass plated wire. Imports of these products are currently classifiable under the following Harmonized Tariff Schedule of the United States (HTSUS) subheadings: 7312.10.9030, 7312.10.9060 and 7312.10.9090.

Excluded from this review is stainless steel wire rope, which is classifiable under the HTSUS subheading 7312.10.6000, and all forms of stranded wire, with the following exception. Based on the affirmative final determination of circumvention of the antidumping duty order, 60 FR 10831 (Feb. 28, 1995), the Department has determined that steel wire strand, when manufactured in Mexico by Camesa and imported into the United States for use in the production of steel wire rope, falls within the scope of the antidumping duty order on steel wire rope from Mexico. Such merchandise is currently classifiable under subheading 7312.10.3020 of the HTSUS.

Although the HTSUS subheadings are provided for convenience and customs purposes, our written description of the scope of this review is dispositive.

Rescission of Review

Section 351.213(d)(1) of the Department's regulations allows the Department to rescind a review if the party that requested the review withdraws the request within 90 days of the publication date of the initiation notice. The Department published the initiation notice on May 1, 2000 (65 FR 25303). The petitioner withdrew its request for a review of Camesa's sales on June 15, 2000. The petitioner was the only party to request a review of Camesa's sales for this period of the proceeding. Therefore, in accordance with section 351.213(d)(1), we are rescinding this review of sales by Camesa.

Section 351.213(d)(3) allows the Department to rescind a review if the Department concludes that during the POR there were no entries, exports, or sales of the subject merchandise, as the case may be. Based on Cablesa's certification, submitted on May 10, 2000, which we independently confirmed with the U.S. Customs Service, we conclude that Cablesa had no entries, exports, or sales during the POR, and, thus, that there is no basis for a review. Therefore, in accordance with section 351.213(d)(3) we are rescinding this review of sales by Cablesa.

We will instruct customs to liquidate the entries made during the POR at the rate entered. We are publishing this notice in accordance with section 351.213(d)(4) of our regulations.

Dated: September 20, 2000.
Joseph A. Spetrini,
Deputy Assistant Secretary, AD/CVD Enforcement Group III.

[FR Doc. 00-24953 Filed 9-27-00; 8:45 am]

BILLING CODE 3510-DS-P